DEPARTMENT OF COMMERCE

National Oceanic and Atmospheric Administration

50 CFR Part 679

[Docket No. 150126078-5999-02]

RIN 0648-BE85

Fisheries of the Exclusive Economic Zone Off Alaska; Revise Maximum Retainable Amounts for Skates in the Gulf of Alaska

AGENCY: National Marine Fisheries Service (NMFS), National Oceanic and Atmospheric Administration (NOAA), Commerce.

ACTION: Final rule.

SUMMARY: NMFS issues regulations to reduce the maximum retainable amount (MRA) of skates using groundfish and halibut as basis species in the Gulf of Alaska (GOA) from 20 percent to 5 percent. Reducing skate MRAs is necessary to decrease the incentive for fishermen to target skates and slow the catch rate of skates in these fisheries. This final rule will enhance conservation and management of skates and minimize skate discards in GOA groundfish and halibut fisheries. This final rule is intended to promote the goals and objectives of the Magnuson-Stevens Fishery Conservation and Management Act (Magnuson-Stevens Act), the Fishery Management Plan for Groundfish of the Gulf of Alaska (FMP), and other applicable laws.

DATES: Effective January 27, 2016.

ADDRESSES: Electronic copies of the following documents may be obtained from http://www.regulations.gov or from the NMFS Alaska Region Web site at http://alaskafisheries.noaa.gov:

• The Environmental Assessment/Regulatory Impact Review/Initial Regulatory Flexibility Analysis (EA/RIR/IRFA) prepared for this action (collectively referred to as the “Analysis”);

• The Alaska Groundfish Harvest Specifications Final Environmental Impact Statement (Harvest Specifications EIS);

• The Harvest Specifications Supplementary Information Report (SIR) prepared for the final 2015 and 2016 harvest specifications; and

• The IRFA for the Gulf of Alaska Groundfish Harvest Specifications for 2015 and 2016 (Harvest Specifications IRFA).

FOR FURTHER INFORMATION CONTACT: Peggy Murphy, 907-586-7228.

SUPPLEMENTARY INFORMATION: NMFS published a proposed rule in the Federal Register on July 10, 2015 (80 FR 39734), and public comments were accepted through August 10, 2015. NMFS received two comment letters with 10 unique comments.

Background

This final rule amends regulations that specify the MRA for skates in the GOA. This final rule also implements several minor clarifications to MRA regulations applicable to the Central GOA Rockfish Program, makes minor corrections to incorrect cross references, and adds skate species inadvertently removed by a previous rule making. This final rule preamble provides a brief description of skate management in the GOA, the purpose of this rule, the affected fisheries, and the regulations implemented by this rule.

A detailed review of the management of GOA skates, the affected fisheries, the rationale for these regulations, and the proposed regulations are provided in the preamble to the proposed rule (80 FR 39734, July 10, 2015) and are not repeated here. The proposed rule is available from the NMFS Alaska Region Web site (see ADDRESSES).

Management of Skates in the GOA

NMFS manages skates (Bathyraja and Raja species) in the exclusive economic zone of the GOA as a groundfish species under the FMP. The North Pacific Fishery Management Council (Council) prepared the FMP under the authority of the Magnuson-Stevens Act, 16 U.S.C. 1801 et seq. Regulations governing groundfish fishing in the GOA and implementing the FMP are found at 50 CFR parts 600 and 679. The Council and NMFS manage big skate (Raja binoculata) and longnose skate (Raja rhina) as single species, and all other skate species (Bathyraja and Raja spp.) are managed together in the “other skates” species group.

GOA skate catches are managed subject to annual limits on the amounts of each species of skate, or group of skate species, that may be taken. The overfishing limits (OFLs), acceptable biological catch (ABCs), and total allowable catch (TACs) for skates are defined in the FMP and specified through the annual “harvest specification process.” A detailed description of the annual harvest specification process is provided in the Final EIS, the SIR, and the final 2015 and 2016 harvest specifications for groundfish of the GOA (80 FR 10250, February 25, 2015). Section 3.2 of the FMP specifies that the ABC is set below the OFL and the TAC must be set lower than or equal to the ABC. NMFS ensures that OFLs, ABCs, and TACs are not exceeded by requiring vessel operators participating in groundfish fisheries in the GOA to comply with a range of restrictions, such as area, time, gear, and operation-specific fishery closures.

The harvest specification process sets annual skate catch limits in the GOA by area. Big skate and longnose skate have OFLs and ABCs defined for the GOA management area. Section 3.2 of the FMP clarifies that TACs can be apportioned by regulatory area. There are three regulatory areas specified in the GOA management area: Western GOA, Central GOA, and Eastern GOA. Accordingly, the ABCs for big skate and longnose skate are apportioned to each of the regulatory areas in the GOA management area based on the proportion of the biomass estimated in each regulatory area. NMFS specifies TACs for big skate and longnose skate for the Western GOA, Central GOA, and Eastern GOA equal to the ABC for each of these regulatory areas. The other skates species group has an OFL, ABC, and TAC specified for the GOA management area (i.e., NMFS does not establish separate ABCs or TACs for the Western GOA, Central GOA, and Eastern GOA). NMFS does not apportion other skates species ABCs or TACs to specific regulatory areas because harvest of these species is usually broadly dispersed throughout the entire GOA, and they are not generally retained. All retained and discarded catch of skates accrues to the TACs, ABCs, and OFLs specified for the species or species group.

NMFS, through the annual harvest specification process, implements regulations at § 679.20(d) to establish a directed fishing allowance (DFA) for a species or species group when any fishery allocation or apportionment of that species or species group will be reached and the fishery closed. Once the fishery is closed, these species are referred to as incidental catch species. When establishing a DFA, NMFS must consider the amount of a species or species group closed to directed fishing that will be taken as incidental catch in directed fishing for other species. NMFS accounts for this amount by subtracting the estimated amount of incidental catch of a species or species group taken in directed fishing for other species from the TAC of that species or species group. If an insufficient amount of TAC is available for a directed fishery for that species or species group, NMFS establishes the DFA for that species or species group as zero metric tons (mt) and prohibits directed fishing for that species or species group.

Directed fishing for groundfish in the GOA is defined at § 679.2 as any fishing activity that results in the retention of an amount of a species or species group onboard a vessel that is greater than the MRA for that species or species group. Therefore, when directed fishing for a species or species group is prohibited, retention of the species or species group is limited to an MRA. NMFS established MRAs to allow vessel operators fishing for species or species groups open to directed fishing to retain a specified amount of incidental catch species.

An MRA is the maximum amount of a species closed to directed fishing (i.e., skate species) that may be retained onboard a vessel. MRAs are calculated as a percentage of the weight of catch of each species or species group open to directed fishing (basis species) that is retained onboard the vessel. The percentage of a species or species group closed to directed fishing retained in relation to the basis species must not exceed the MRA.

MRAs assist in limiting catch of a species within its annual TAC. NMFS closes a species to directed fishing before the entire TAC is taken to leave sufficient amounts of the TAC available for incidental catch. The amount of the TAC remaining available for incidental catch is typically managed by a species-specific MRA. An MRA applies at all times and to all areas for the duration of a fishing trip (see § 679.20(e)(3)). Vessel operators may retain incidental catch species while directed fishing for groundfish species up to the MRA percentage of the basis species retained catch until the TAC for the incidental catch species is met.

Regulations at § 679.20(d)(2) and § 679.21(b) specify that if the TAC for a species is reached, then retention of that species becomes prohibited and all catch of that species must be discarded with a minimum of injury, regardless of its condition, for the remainder of the year. Therefore, when NMFS prohibits retention of an incidental catch species, such as skates, vessel operators must discard all catch of that species. Discards that are required by regulation are known as regulatory discards. The primary purpose of requiring discards is to remove any incentive for vessel operators to increase incidental catch of the species as a portion of other fisheries and to minimize the catch of that species.

MRAs are a management tool to slow down the rate of harvest and reduce the incentive for targeting a species closed to directed fishing. Although MRAs limit the incentive to target on an incidental catch species, fishermen can “top off” their retained groundfish and halibut catch with incidental catch species up to the maximum permitted under the MRA. Fishermen are top-off fishing when they deliberately target and retain incidental catch species up to the MRA instead of harvesting the species incidentally. Thus, MRAs reflect a balance between NMFS' need to limit the harvest catch rate of skates and minimize regulatory discards of the incidental catch of skates, while providing fishermen an opportunity to harvest the available skate TAC through limited retention.

NMFS has determined that the TACs specified for all skate species in the GOA are needed to support incidental catch of skates in directed fisheries for other groundfish and halibut (Hippoglossus stenolepis). As a result, there are insufficient TACs for skate species to support directed skate fisheries, the DFA for skates is set to zero mt, and directed fishing for skates is prohibited at the beginning of the fishing year. When directed fishing for skates is prohibited, the catch of skates is limited by an MRA.

The skate MRA is specified by basis species in Table 10 and Table 30 to 50 CFR part 679. The skate MRA is not specified by skate species. Instead, the skate MRA is based on the combined round weight of all skate species retained onboard a vessel. A single MRA for all skates was established because it was determined that fishermen and processors could have difficulty identifying skate species and may not be able to easily determine if they have reached an MRA for a specific skate species. Therefore, a separate MRA for each species would be difficult to manage and enforce. Additional detail on the designation of a single skate MRA is provided in Section 1.2 of the Analysis.

Currently, the skate MRA for all basis species in the GOA is 20 percent of the basis species round weight retained onboard a vessel. This means the maximum amount of skates (i.e., big, longnose, and other skates species) that may be retained onboard a vessel must not exceed 20 percent of the round weight of other groundfish species and halibut retained onboard a vessel. Amounts of a skate species onboard the vessel that are below or equal to the MRA may be retained. Amounts of a skate species in excess of the MRA must be discarded.

The incidental catch of skates varies by species and by fishing gear. NMFS data show that from 2008 through 2014, skates were caught in the GOA primarily by vessels directed fishing for groundfish with non-pelagic trawl gear and by vessels directed fishing for groundfish and halibut with hook-and-line gear. Very limited amounts of skates were also caught by vessels using pelagic trawl, pot, and jig gear. Big skate catch occurs primarily in the Central GOA. Less than one tenth of the catch comes from the Western GOA or the Eastern GOA. NMFS' catch accounting data show the proportion of big skate catch by vessels using non-pelagic trawl is slightly higher than the proportion caught by vessels using hook-and-line gear. Longnose skate are caught predominantly in the Central GOA, with more limited catch in the Eastern GOA, and the least amount of catch in the Western GOA. NMFS data show that in recent years the proportion of longnose skate catch by vessels using hook-and-line gear is greater than the proportion caught by vessels using non-pelagic trawl gear. Other skates species are caught primarily in the Central GOA. NMFS data show the proportion of other skates species catch by vessels using hook-and-line gear is much greater than the proportion caught by vessels using non-pelagic trawl gear.

In December 2013, the Council received public testimony that the current MRA for skates in the GOA allows fishermen to deliberately target skates while ostensibly directed fishing for other groundfish or halibut. NMFS observed this top-off fishing behavior based on information from recent years of incidental skate catch of skate species in directed groundfish and halibut fisheries. Some fishermen maximize their retention of skates and retain skates up to the MRA limit of 20 percent of the basis species onboard a vessel early in the year by deliberately targeting them while directed fishing for other species. This top-off fishing pattern has increased the harvest rate of skates. Over a period of years, skate catch has exceeded the TAC in some areas. The estimated catch of big skate exceeded the TAC in the Central GOA in 2010, 2011, 2012, and 2013, and the estimated catch of longnose skate exceeded the TAC in the Western GOA in 2009, 2010, and 2013. The catch of other skates species has not exceeded the TACs established for the GOA management area; however, in 2013 and 2014, the catch of other skates species was estimated at 93 percent and 98 percent of the 2013 and 2014 TACs, respectively.

When fishery managers estimated the big or longnose skate TACs in a regulatory area would be exceeded, NMFS prohibited retention of big or longnose skates in the directed fisheries for groundfish and halibut and required discard of all big or longnose skate catch in the regulatory area for the remainder of the calendar year. The earlier in the year that NMFS prohibits the retention of big or longnose skates in the directed fisheries for groundfish and halibut, the greater the total amount of regulatory discards of skates, because skates are caught in other groundfish and halibut fisheries throughout the entire year.

Purpose of This Final Rule

This final rule reduces the MRA for skates in the GOA from 20 percent to 5 percent. By reducing the MRA, this final rule further limits the amount of skates that could be retained while directed fishing for other groundfish and halibut. Under this final rule, the round weight of a retained skate species could be no more than 5 percent of the round weight of the basis species. Reducing the skate MRA decreases the incentive for fishermen to engage in top-off fishing for skates so that the catch rate of skates more accurately reflects the rate of incidental catch of skates in the directed groundfish and halibut fisheries in the GOA. The reduction in the MRA will slow accrual of skate catch against the TAC and enhance NMFS' ability to limit the catch of skates to the skate TACs. This final rule is expected to minimize discards of skates by reducing the likelihood that NMFS would need to prohibit retention of a skate species in a GOA management area during the year to maintain skate catch at or below its TAC. This final rule will help NMFS to ensure that skate catch in the future does not exceed a TAC, ABC, or OFL.

Regulations Implemented by This Final Rule

This final rule makes five amendments to regulations. First, this final rule revises skate MRAs in Table 10 to 50 CFR part 679, Gulf of Alaska Retainable Percentages, and in Table 30 to 50 CFR part 679, Rockfish Program Retainable Percentages. Table 10 establishes the MRAs applicable to vessels fishing groundfish in the GOA, except for vessels fishing under the authority of the Central GOA Rockfish Program. Table 30 establishes MRAs that are applicable to vessels participating in the Central GOA Rockfish Program. NMFS reduces the incidental catch species MRAs for skates for each basis species listed in both Tables 10 and 30 from 20 percent to 5 percent. NMFS notes the basis species termed “Aggregated amount of non-groundfish species” includes all legally retained IFQ halibut as explained in footnote 12 to Table 10. The skate MRAs will be set equal to 5 percent in Tables 10 and 30 on the effective date of this final rule (see DATES).

Second, this final rule corrects two regulatory cross-reference errors. These errors resulted from reorganizing and renumbering the Federal Fisheries Permit requirements in § 679.4(b) and were implemented in a final rule published on October 21, 2014 (79 FR 62885). Current regulations at § 679.7(a)(18) and § 679.28(f)(6)(i) incorrectly refer to the FFP requirements at § 679.4(b)(5)(vi), a paragraph that no longer exists. This final rule corrects those cross references to § 679.4(b).

Third, this final rule modifies regulatory text to clarify that a vessel fishing under a Rockfish Program cooperative quota (CQ) permit may harvest groundfish species not allocated as CQ up to the MRA for that species as established in Table 30 to 50 CFR part 679. This final rule removes the last sentence in regulations at § 679.20(f)(2), because the sentence makes an incorrect statement. The last sentence in 679.20(f)(2) states that “only primary rockfish species harvested under the Rockfish Program may be used to calculate retainable amounts of other species, as provided in Table 30 to this part.” The heading in the last column in Table 30 correctly states that the MRA for vessels fishing under the Rockfish Program is calculated as “a percentage of total retained rockfish primary species and rockfish secondary species.” NMFS corrects this discrepancy by removing the inaccurate last sentence of § 679.20(f)(2) that refers only to rockfish primary species. The current regulations at § 679.81(h)(4)(i) and (h)(5) use the term “incidental catch species” in the calculation of an MRA to refer to “groundfish species not allocated as cooperative quota (CQ).” This final rule adds the referenced text to § 679.81(h)(4)(i) and (h)(5) to ensure consistent use of terminology in the regulations.

Fourth, this final rule revises Table 2a to 50 CFR part 679 to add Alaska, Aleutian, and whiteblotched skates, as well as the scientific names for individual skate species. Adding these individual skate species and the scientific names facilitates the reporting of individual skate species taken during groundfish harvest and provides more detailed information regarding skate harvests for stock assessments and fisheries management. This revision supports managing skates as a target species group or as individual target species. These skate species and scientific names were added to Table 2a in final regulations implementing changes to groundfish management in the BSAI and GOA on October 6, 2010 (75 FR 61639). Subsequent regulations published on July 11, 2011 (76 FR 40628), amended Table 2a to 50 CFR part 679 and that revision inadvertently removed the skate species codes implemented on October 6, 2010. The addition of these skate species and scientific names corrects this error. The addition of species codes does not change the management of skates or the other provisions of this final rule.

Fifth, this final rule makes several clarifications and corrections to Table 10 and Table 30 to part 679. These clarifications are:

• In Table 10 to part 679, the genus name, common name, and numeric species codes for Alaska skate, Aleutian skate, and whiteblotched skate are added;

• In Table 10 to part 679, the basis species, pelagic shelf rockfish, is replaced with dusky rockfish to be consistent with the appropriate species designation in regulation;

• In Table 10 to part 679, the genus name, common name, and species codes in the table and in the notes to the table are updated for consistency;

• In Note 4 to Table 10 to part 679, the references to “slope rockfish” are removed and replaced with the correct term “other rockfish”; and widow rockfish and yellowtail rockfish are added to the 17 species that form the “other rockfish” group to correctly categorize these species;

• Note 5 to Table 10 to part 679 is removed because it is no longer applicable, and Notes 6 through 13 are renumbered as Notes 5 through 12, respectively.

• In Note 6 to Table 10 to part 679, the erroneous regulatory reference to § 679.7(b)(4) is deleted and the regulatory reference, § 679.20(j), is clarified so as to provide for full retention of demersal shelf rockfish by catcher vessels in the Southeast Outside District;

• In Note 8 to Table 10 to part 679, the regulatory reference, § 679.2, is clarified to exclude the species listed;

• In Table 30 to part 679, grenadier species is added as an incidental catch species for the fishery category “Rockfish Cooperative vessels fishing under a Rockfish CQ permit for rockfish non-allocated species” and an MRA of 8 percent is added. This change from the proposed rule would correct an oversight from the recently published regulations that implemented an MRA for grenadiers for the groundfish fisheries in the GOA (80 FR 11897, March 5, 2015). That rule added the grenadier MRA of 8 percent to Table 10 to part 679, which does not apply to vessels when fishing in the Central GOA Rockfish Program. However, it is clear from the preamble to the proposed rule (79 FR 27557, May 14, 2014) and the final rule (80 FR 11897, March 5, 2015) that the intent was to apply the MRA to all groundfish fishing in the GOA. Adding a grenadier MRA to Table 30 to part 679 will achieve this intent by applying the grenadier MRA to vessels when fishing in the Central GOA Rockfish Program; and

• In Table 30 to part 679, a footnote is added to explain that the descriptions of different incidental catch species groups listed in this table can be found in the notes to Table 10 to part 679.

Changes From the Proposed Rule

The proposed rule for this action was published in the Federal Register on July 10, 2015 (80 FR 39734). There are five categories of regulatory changes made from the proposed rule.

First, this final rule adds a suite of corrections to Table 10 and Table 30 to part 679 in response to comment 10 on the proposed rule (see Comment and Response). These technical corrections are described in the previous section of this preamble as the fifth amendment made to the regulations and in comment 10 and are not repeated here.

Second, this final rule reorders the listing of the skate species and the corresponding species codes added to Table 2a to part 679 and the listing of skate species and corresponding species codes in Table 10 to part 679 to follow the formatting convention that lists the species description alphabetically. This is not a substantive change.

Third, this final rule replaces the references to “numerical percentage” with “MRA” in Note 1 and Note 7 to Table 10 to part 679, replaces “retainable percentage” with “MRA” in Note 1 to Table 10 to part 679, and replaces “category” with “species group” in Note 7 to Table 10 to part 679. These changes clarify that the percentages are the MRAs established in Table 10, and that DSR and SR/RE represent separate species groups. This is not a substantive change.

Fourth, this final rule revises Note 2 to Table 10 to part 679, to add Kamchatka flounder and its species code to the list of species that comprise the deep-water flatfish species group to be consistent with current harvest specifications. This is not a substantive change.

Fifth, this final rule revises Table 30 to part 679, to clarify that the Rockfish Entry Level Fishery using longline gear, the fishery for opt-out vessels, and the fishery for Rockfish Cooperative Vessels not fishing under a CQ permit referred to in Table 30 to part 679 are to “use” Table 10 to part 679 rather than “see” Table 10 to part 679. This is not a substantive change.

Comment and Response

During the public comment period, NMFS received two comment letters generally expressing support for the proposed rule. The letters contain 10 unique comments on the proposed rule. A summary of the comments received and NMFS' responses follow.

Comment 1: The commenters support a reduction in the skate MRA from 20 percent to 5 percent for the following reasons: (1) The reduced MRA will remove the incentive to target and top off on skates while fishing for other groundfish species; (2) An MRA set at 5 percent will more closely reflect the normal encounter rate of skates during fishing; (3) Reducing the skate MRA could slow skate retention and thus the catch rate of skate species; (4) Reducing the skate MRA will decrease the potential for prohibiting skate species retention, allow retention of skates throughout the year, and minimize regulatory discard of skates.

Response: NMFS acknowledges this comment and agrees with the commenter's rationale for support.

Comment 2: The commenter notes that this final rule may avoid triggering prohibition of skate harvest when catches approach a skate ABC or TAC. However, it is still unknown whether the incidental species catch of skates will exceed 5 percent of the catch on an individual haul-by-haul basis for vessels in the trawl fishery. The commenter recommends the adoption of a comprehensive GOA-wide trawl bycatch management program with cooperative target species and prohibited species catch allocations to eliminate the race for fish and reduce regulatory discards.

Response: NMFS acknowledges that a vessel may have an incidental species catch of skates that exceeds 5 percent of the catch of a given haul, but the 5 percent MRA applies to the sum of all basis species on board the vessel. This is likely to include catch from many different hauls. Therefore, regulatory discard may not be required. The comment recommending the adoption of a comprehensive GOA-wide trawl bycatch management program is outside of the scope of this action. The Council and NMFS are considering measures similar to those recommended by the commenter under a separate action. NMFS has prepared a Notice of Intent to prepare an Environmental Impact Statement that would consider a broad range of alternative management programs for the GOA trawl fisheries, including those suggested by the commenter. The Notice of Intent published on July 14, 2015, and NMFS requested public comment through August 28, 2015 (80 FR 40988, July 14, 2015). NMFS will incorporate written comments from the public to identify the issues of concern and assist the Council in determining the appropriate range of management alternatives for the EIS. Additional information on management actions related to the GOA trawl fisheries is available through the NMFS Alaska Region Web site at: http://alaskafisheries.noaa.gov.

Comment 3: NMFS should place more emphasis on the assessment of GOA skates. The commenters suggest additional research on population density, migration, natural mortality, and other factors affecting skates would aid in the assessment and management of GOA skate resources. The commenters state their willingness to participate in cooperative research.

Response: NMFS acknowledges the comment. The stock assessment process used to determine the status of skate biomass is described in Section 3.1.1 of the Analysis. Additional information on the research NMFS has conducted and is undertaking to improve its understanding of GOA skates is available through the Alaska Fishery Science Center's Web site at http://www.afsc.noaa.gov/REFM/stocks/assessments.htm. NMFS has engaged in cooperative research with the fishing industry to investigate sustainable fisheries management. Specific cooperative research regarding skates would be conducted with the Alaska Fisheries Science Center and are outside of the scope of this action.

Comment 4: Trawl and hook-and-line gear discard mortality rates (DMRs) should be estimated for GOA skates. The current DMR is assumed to be 100 percent and is not accurate. This DMR overestimates the mortality of skate bycatch and impacts the skate biomass estimate for the GOA.

Response: The 2014 Stock Assessment and Fishery Evaluation for GOA skates states that the highest priority for research is in understanding the focus on direct fishing effects on skate populations. Scientists consider the most important component of this research to be a full evaluation of the catch and discards in all fisheries capturing skates. NMFS will continue to explore the effects of fishing, including DMRs, in future research.

Comment 5: Improving the species-specific reporting of skate catch delivered to processors would help the stock assessment authors. The commenter suggests some outreach by NMFS to educate processor personnel about skate identification. The commenter notes that NMFS has aided processor personnel in the identification of other species catch, such as GOA rockfish, and a similar approach for skates could improve species identification.

Response: NMFS acknowledges the comment and agrees that outreach and broad distribution of NMFS' skate identification guide (http://alaskafisheries.noaa.gov/er/skateguide.pdf) would improve skate harvest information for stock assessment. NMFS will forward a recommendation for these improvements to the Council plan team responsible for management of groundfish under the FMP, and will coordinate with GOA processors.

Comment 6: The commenter suggests that text on page 39735 of the preamble to the proposed rule (July 10, 2015; 80 FR 39734) could be clarified. The commenter states that when retention of the incidental catch of a skate species is prohibited (i.e., placed on prohibited species catch (PSC) status), then only the specific skate species or species group (e.g., big skate, longnose skate or other skates species) must be discarded. For example, if the incidental catch of big skates is prohibited, big skates must be discarded but longnose skates and other skates species (in aggregate) may be retained up to the MRA.

Response: NMFS acknowledges the comment and agrees with the commenter's clarification. NMFS intends to manage skates as described in the comment. This is also consistent with the description of management provided in Section 4.10 of the Analysis. No change to the regulatory text is required.

Comment 7: The commenter suggests that text on page 39735 of the preamble to the proposed rule (July 10, 2015; 80 FR 39734) could be clarified. The commenter states that the reason that other skates species are not managed separately or under area-specific ABCs or TACs is that the management in this aggregate for the GOA management area is adequate to maintain those species at a sustainable level. It should be noted, as it is in the 2014 GOA Skate Stock Assessment and Fishery Evaluation (available at: http://www.afsc.noaa.gov/refm/stocks/assessments.htm), that skates are generally difficult for harvesters and processors to identify to the species level, especially the less common skates defined as other skates species.

Response: NMFS acknowledges and agrees with the commenter's clarification. NMFS recognizes management of skates at the individual species and regulatory area level depends on accurate species-specific harvest information. Section 4.10 of the Analysis states that misidentification of other skates species could cause a serious enforcement issue for differing species-specific MRAs. No change to the regulatory text is required.

Comment 8: The commenter suggests that text on page 39735 of the preamble to the proposed rule (July 10, 2015; 80 FR 39734) could be clarified. The commenter states that NMFS does not have the authority to issue in-season management measures to close a commercial fishery for individual fishing quota (IFQ) halibut in the GOA should a skate OFL be reached in the GOA. The commenter states that the GOA FMP groundfish species (Table 2a to part 679) does not include halibut. Halibut is included in the FMP only as a prohibited species. Because the halibut is not defined as a groundfish species, NMFS in-season management measures to close a groundfish fishery to prevent overfishing do not include IFQ halibut and apply only to groundfish species managed by NMFS under the FMP. The commenter recommends that this issue should be addressed in the 10-year review of the halibut and sablefish IFQ program which has been initiated by the Council.

Response: NMFS acknowledges the comment and agrees with the commenter's clarification regarding the regulations. Regulations at § 679.21 establish the requirements for closing a groundfish fishery if an OFL will be reached. Extending in-season management authority to the IFQ halibut fishery under § 679.21 is outside of the scope of this action and is not addressed further. The final rule does not change regulations governing the Pacific halibut fisheries implemented by the International Pacific Halibut Commission or NMFS.

Comment 9: The commenter suggests that text on page 39736 of the preamble to the proposed rule (July 10, 2015; 80 FR 39734) could be clarified. The commenter states that the incidental catch of skates by jig gear, although likely low in volume, are actually unknown because the GOA jig fishery was exempt from observer coverage before 2013.

Response: Overall, NMFS estimates that jig gear catches a small amount of skates relative to hook-and-line and trawl gear (Section 5.6 of Analysis). NMFS uses data submitted electronically by shoreside or stationary floating processors to estimate the landed catch of any skates delivered by vessels using jig gear. NMFS acknowledges that there is not currently observer coverage on vessels in the jig fisheries to obtain estimates of the amount of at-sea discards of skates. In the future, NMFS could modify deployment of observers on jig vessels through its Annual Deployment Plan (ADP) process. NMFS could modify the ADP and expand coverage to vessels with jig gear if needed for conservation and management. Currently, there is no evidence that catch of skates by vessels using jig gear warrants additional observer coverage.

Comment 10: The commenter recommends a number of clarifications and corrections to Table 10 to part 679 and Table 30 to part 679 to improve their usefulness to the fishing industry. The commenter states that these tables are difficult to interpret due to inconsistencies with other regulations, revisions over time that have reduced their clarity, or references to outdated regulations that are no longer applicable. The commenter suggests updating and clarifying these tables as follows:

• In Table 10 to part 679, add the proper genus name, common name, and numeric species codes for Alaska skate, Aleutian skate, and whiteblotched skate;

• In Table 10 to part 679, replace the basis species, pelagic shelf rockfish, with dusky rockfish to be consistent with the appropriate species designation in regulation:

• In Table 10 to part 679, consistently use the genus name, common name, and species codes in the table and in the notes to the table;

• In Note 4 to Table 10 to part 679, remove the reference to slope rockfish and replace it with “rockfish” so that it is clear that this provision applies to all rockfish species except demersal shelf rockfish (DSR) and shortraker/rougheye rockfish (SR/RE); and add widow rockfish and yellowtail rockfish to the 15 species that form the new “rockfish” group;

• Delete Note 5 to Table 10 to part 679 because it is no longer applicable;

• In Note 6 to Table 10 to part 679, clarify the regulatory reference;

• In Note 8 to Table 10 to part 679, replace the reference to § 679.2 and instead refer to the list of species already contained in the notes to the table;

• In Table 30 to part 679, add grenadier species as an incidental catch species for the fishery category for Rockfish Cooperative vessels fishing under Rockfish CQ permit for rockfish non-allocated species and add an MRA of 8 percent to be consistent with MRAs for grenadiers that are applicable in Table 10; and

• In Table 30 to part 679, add a footnote to Table 30 to explain that the descriptions of different incidental catch species groups listed in this table can be found in the notes to Table 10 to part 679.

Response: NMFS agrees with each of the commenter's suggested changes to Tables 10 and 30 with one exception. In Table 10 to part 679, NMFS replaced the references to “slope rockfish” with “other rockfish” instead of “rockfish” as suggested by the commenter. The commenter also suggested NMFS define “these rockfish species as all rockfish species except DSR and SR/RE.” NMFS disagrees with this definition because: (1) “all rockfish species” includes rockfish species besides those in the other rockfish species group; and (2) excluding DSR conflicts with the explanations of the other rockfish species groups in the Western regulatory area, Central regulatory area, and West Yakutat District. NMFS uses “other rockfish” to correctly name this rockfish species group and accurately refers to “other rockfish” by regulatory area consistent with regulations.

The changes suggested by the commenter are minor clarifications and do not have a substantive effect on the calculation or applicability of MRAs. Each of the comments and the rationale for accepting the comment follows.

The change to add Alaska, Aleutian, and whiteblotched skate to Table 10 is consistent with NMFS' recommendation in the proposed rule to add these species to Table 2a of CFR part 679.

The change in Table 10 to part 679, to replace “pelagic shelf rockfish” with “dusky rockfish” is consistent with NMFS' intent in the final rule implementing the Central GOA Rockfish Program that published December 27, 2011 (76 FR 81248). This change corrects the species designation to be consistent with existing regulations.

The change to consistently use the genus name, common name, and species codes in Table 10 to part 679 is a minor clerical correction.

The change to Note 4 to Table 10 to part 679, to remove references for “slope rockfish” and replace them with “rockfish”, where rockfish means all rockfish species except DSR and SR/RE, was clarified by NMFS. Specifically, NMFS determined stated that references to “slope rockfish” should be replaced with “other rockfish” because other rockfish in the Western regulatory area, Central regulatory area, and West Yakutat district means other rockfish and DSR. Therefore, explaining the meaning of “other rockfish” by using “rockfish means all rockfish species except DSR and SR/RE”, as recommended by the commenter, would incorrectly include the universe of rockfish species and inaccurately exclude DSR from the Western, Central and West Yakutat areas. The correct reference is “other rockfish.” This change does not modify any of the MRAs that are applicable to the specific species, or otherwise modify management.

The change to delete Note 5 to Table 10 to part 679 provides consistency with regulations because Note 5 is no longer applicable.

The change to Note 6 to Table 10 to part 679, clarifies the regulatory reference to § 679.20(j), provides for full retention of demersal shelf rockfish by catcher vessels in the Southeast Outside District.

The change to Note 8 to Table 10 to part 679, should provide clarity to the reader by explaining the species included and excluded in the species group and listed in the regulatory reference at § 679.2.

The changes to Table 30 to part 679, to add grenadier species as an incidental catch species for the fishery category for Rockfish Cooperative vessels fishing under a Rockfish CQ permit for rockfish non-allocated species and add an MRA of 8 percent would be consistent with recently implemented regulations that established an MRA for grenadiers (80 FR 11897, March 5, 2015). This change from the proposed rule would correct an oversight in the publication of regulations that established an MRA for grenadiers. Currently, the MRA is only described in Table 10 to part 679. However, it is clear from the preamble to the proposed rule (79 FR 27557, May 14, 2014) and the final rule (80 FR 11897, March 5, 2015) that the intent was to apply the MRA to all groundfish fishing, and not to specifically exclude vessels when fishing under the Central GOA Rockfish Program. This change would correct that oversight to be consistent with MRAs for grenadiers that are applicable in Table 10.

The last change to Table 30 to part 679 adds a footnote to Table 30 to explain that the descriptions of different incidental catch species groups listed in Table 30 can be found in the notes to Table 10 to part 679. This change provides a clarification to the reader and does not change existing management.

Classification

The Administrator, Alaska Region, NMFS, determined that this final rule is necessary for the conservation and management of the GOA groundfish fishery and that it is consistent with the FMP, the Magnuson-Stevens Act, and other applicable laws.

Small Entity Compliance Guide

Section 212 of the Small Business Regulatory Enforcement Fairness Act of 1996 states that, for each rule or group of related rules for which an agency is required to prepare a final regulatory flexibility analysis (FRFA), the agency shall publish one or more guides to assist small entities in complying with the rule, and shall designate such publications as “small entity compliance guides.” The agency shall explain the actions a small entity is required to take to comply with a rule or group of rules. The preamble to the proposed rule and this final rule serve as the small entity compliance guide. This action does not require any additional compliance from small entities that is not described in the preambles. Copies of the proposed and final rules are available from NMFS at the following Web site: http://alaskafisheries.noaa.gov.

Executive Order 12866

This rule has been determined to be not significant for purposes of Executive Order 12866.

Final Regulatory Flexibility Analysis

Section 604 of the Regulatory Flexibility Act (RFA) requires that, when an agency promulgates a final rule under section 553 of Title 5 of the U.S. Code, after being required by that section, or any other law, to publish a general notice of proposed rulemaking, the agency shall prepare a final regulatory flexibility analysis.

Section 604 describes the contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency which affect the impact on small entities was rejected.

Need for and Objectives of This Action

A statement of the need for, and objectives of, the rule is contained in the preamble to this final rule (see the “Purpose of this Final Rule” section in this preamble) and is not repeated here.

Summary of Significant Issues Raised During Public Comment

NMFS published a proposed rule on July 10, 2015 (80 FR 39734). An initial regulatory flexibility analysis (IRFA) was prepared and summarized in the “Classification” section of the preamble to the proposed rule. The comment period closed on August 10, 2015. NMFS received two letters of public comment on the proposed rule containing 10 unique comments. No comments were received on the IRFA or the economic impacts of the rule on small entities. The Chief Counsel for Advocacy of the SBA did not file any comments on the proposed rule.

Number and Description of Small Entities Regulated by This Action

The Small Business Administration (SBA) establishes the size standards for all major industry sectors in the U.S., including commercial finfish harvesters (79 FR 33647, June 12, 2014). A business primarily involved in finfish harvesting is classified as a small business if it is independently owned and operated, is not dominant in its field of operation (including its affiliates), and has combined annual gross receipts not in excess of $20.5 million, for all its affiliated operations worldwide. For purposes of this FRFA, the effects of the final rule fall primarily on the distinct segment of the fishery industry characterized as commercial finfish harvesters.

The entities that can reasonably be expected to be directly regulated by the final rule include all catcher vessels and catcher/processors directed fishing for groundfish and halibut in the GOA that may harvest any species of skate. Based on data from 2013 (the most recent year of complete data), this action is estimated to directly regulate 1,153 small entities: 1,073 small catcher vessels fishing with hook-and-line gear (including jig gear), 116 small catcher vessels fishing with pot gear, and 32 small catcher vessels fishing with trawl gear. The average gross revenues estimates for 2013 are $380,000 for small hook-and-line catcher vessels, $960,000 for small pot catcher vessels, and $2.8 million for small trawl catcher vessels. In addition, this action would directly regulate 2 small catcher/processors fishing with hook-and-line gear, and one small catcher/processor fishing with trawl gear. Specific revenue data for these small catcher/processors are confidential but are less than $20.5 million annually.

The annual revenue at risk for all catcher vessels and catcher/processors that could be affected by this final rule is estimated at $2.4 million. However, the impact relative to each vessel that retains skates in the GOA is quite small. Reducing the skate MRA primarily affects those vessels whose operators have retained big skate at an amount greater than 5 percent of their basis species in the Central GOA. In general, vessels that catch and retain skates show relatively little dependence on GOA skates for their gross revenues. The actual impact on gross revenue for a specific vessel may vary from year to year depending on the total abundance of skates, total catch of skates, market conditions, and ex-vessel price.

Description of Significant Alternatives That Minimize Adverse Impacts on Small Entities

FRFA also requires a description of the steps the agency has taken to minimize the significant impact on directly regulated small entities consistent with the stated objectives of applicable statutes, including a statement of the factual, policy, and legal reasons for selecting the alternative (Alternative 4) adopted in the final rule and why each of the other significant alternatives to the rule considered by the agency that affect the economic impact on small entities was rejected. NMFS and the Council considered four alternative MRAs to reduce the incentive for fishermen to pursue top-off fishing for skates and slow the catch rate of skates in the GOA groundfish and halibut fisheries. In addition to the status quo of an MRA of 20 percent, the Council and NMFS evaluated alternatives to reduce skate MRAs to 15, 10, and 5 percent.

The analysis examined the rate of big skate catch relative to groundfish catch by directed fishery before and after big skate retention was prohibited in 2013 and 2014 (Section 4.5.1.1 of the Analysis). Comparison of changes in catch rates after retention was prohibited show the harvest rate for big skate dropped from as much as 8.6 percent of the total groundfish and halibut catch to a harvest rate that ranged from 6.3 percent to 0.1 percent of the total groundfish and halibut catch depending on the year, gear type, and target fishery. These data indicate that participants in various target fisheries could avoid the incidental catch of big skate when there was not an incentive to retain big skates.

Further analysis used a model to compare the retained skate catch of all skate species, in all areas and by vessels using all gear types under the alternative percentages of the basis species (Section 4.5.1.4 of the Analysis). The model indicates that reducing the skate MRA below 10 percent is expected to reduce the incentive for vessel operators to engage in top-off fishing and overall skate catch as fishermen avoid areas where skates are encountered. The model indicates that a 5 percent MRA best ensures that NMFS will not have to prohibit the retention of skates and that skate TACs will not be exceeded.

The Analysis did not identify any other alternatives that more effectively meet the RFA criteria to minimize adverse economic impacts on directly regulated small entities.

This action implements Alternative 4, a 5 percent skate MRA. As discussed in Section 4.7 and 4.8 of the Analysis, the preferred alternative is the only alternative of the alternatives considered that is expected to adequately reduce the incentive for fishermen to target skates that may be retained as incidental catch species. A 5 percent MRA accomplishes the objectives of this final rule to slow the catch rate of skates in the GOA groundfish and halibut fisheries to ensure that the TACs for skate species are not exceeded.

Reporting, Recordkeeping Requirements, and Other Compliance Requirements

This action does not impose any additional reporting requirements on the participants of the GOA groundfish and halibut fisheries.

Duplicate, Overlapping, or Conflicting Federal Rules

NMFS has not identified other Federal rules that may duplicate, overlap, or conflict with this final rule.

List of Subjects in 50 CFR Part 679

Alaska, Fisheries.

Dated: December 21, 2015.
Eileen Sobeck,
Assistant Administrator for Fisheries, National Marine Fisheries Service.

For the reasons set out in the preamble, NMFS amends 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.7, revise paragraph (a)(18) to read as follows:

§ 679.7 Prohibitions.

* * * * *

(a) * * *

(18) Pollock, Pacific Cod, and Atka Mackerel Directed Fishing and VMS. Operate a vessel in any Federal reporting area when a vessel is authorized under § 679.4(b) to participate in the Atka mackerel, Pacific cod, or pollock directed fisheries and the vessel's authorized species and gear type is open to directed fishing, unless the vessel carries an operable NMFS-approved Vessel Monitoring System (VMS) and complies with the requirements in § 679.28(f).

* * * * *

3. In § 679.20, revise paragraph (f)(2) to read as follows:

§ 679.20 General limitations.

* * * * *

(f) * * *

(2) Retainable amounts. Any groundfish species for which directed fishing is closed may not be used to calculate retainable amounts of other groundfish species. Only fish harvested under the CDQ Program may be used to calculate retainable amounts of other CDQ species.

* * * * *

4. In § 679.28, revise paragraph (f)(6)(i) to read as follows:

§ 679.28 Equipment and operational requirements.

* * * * *

(f) * * *

(6) * * *

(i) You operate a vessel in any reporting area (see definitions at § 679.2) off Alaska while any fishery requiring VMS, for which the vessel has a species and gear endorsement on its Federal Fisheries Permit under § 679.4(b), is open.

* * * * *

5. In § 679.81, revise paragraphs (h)(4)(i) and (h)(5) introductory text to read as follows:

§ 679.81 Rockfish Program annual harvester privileges.

* * * * *

(h) * * *

(4) * * *

(i) The MRA for groundfish species not allocated as CQ (incidental catch species) for vessels fishing under the authority of a CQ permit is calculated as a proportion of the total allocated rockfish primary species and rockfish secondary species on board the vessel in round weight equivalents using the retainable percentage in Table 30 to this part; except that—

* * * * *

(5) Maximum retainable amount (MRA) calculation and limits—catcher/processor vessels. The MRA for groundfish species not allocated as CQ (incidental catch species) for vessels fishing under the authority of a CQ permit is calculated as a proportion of the total allocated rockfish primary species and rockfish secondary species on board the vessel in round weight equivalents using the retainable percentage in Table 30 to this part as determined under § 679.20(e)(3)(iv).

* * * * *

6. Revise Table 2a to part 679 to read as follows:

Table 2a to Part 679—Species Codes: FMP Groundfish
Species description | Code
Atka mackerel (greenling) | 193
Flatfish, miscellaneous (flatfish species without separate codes) | 120
FLOUNDER:
Alaska plaice | 133
Arrowtooth | 121
Bering | 116
Kamchatka | 117
Starry | 129
Octopus, North Pacific | 870
Pacific cod | 110
Pollock | 270
ROCKFISH:
Aurora (Sebastes aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. variabilis) | 172
Greenstriped (S. elongatus) | 135
Harlequin (S. variegatus) | 176
Northern (S. polyspinis) | 136
Pacific Ocean Perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS:
Other (if salmon, spiny dogfish or Pacific sleeper shark—use specific species code) | 689
Pacific sleeper | 692
Salmon | 690
Spiny dogfish | 691
SKATES:
Alaska (Bathyraja parmifera) | 703
Aleutian (B. aleutica) | 704
Whiteblotched (B. maculata) | 705
Big (Raja binoculata) | 702
Longnose (R. rhina) | 701
Other (if, Alaska, Aleutian, whiteblotched, big, or longnose skate—use specific species code listed above) | 700
SOLE:
Butter | 126
Dover | 124
English | 128
Flathead | 122
Petrale | 131
Rex | 125
Rock | 123
Sand | 132
Yellowfin | 127
Squid, majestic | 875
Turbot, Greenland | 134

7. Revise Table 10 to part 679 to read as follows:

BILLING CODE 3510-22-C

8. Revise Table 30 to part 679 to read as follows:

Table 30 to Part 679—Rockfish Program Retainable Percentages
[In round wt. equivalent]
Fishery | Incidental catch species ¹ | Sector | MRA as a percentage of total retained rockfish primary species and rockfish secondary species
Rockfish Cooperative Vessels fishing under a CQ permit | Pacific cod Shortraker/Rougheye aggregate catch | Catcher/Processor Catcher Vessel | 4.0 2.0
| See rockfish non-allocated species for “other species”
Rockfish non-allocated Species for Rockfish Cooperative vessels fishing under a Rockfish CQ permit | Pollock Deep-water flatfish Rex sole Flathead sole | Catcher/Processor and Catcher Vessel Catcher/Processor and Catcher Vessel Catcher/Processor and Catcher Vessel Catcher/Processor and Catcher Vessel | 20.0 20.0 20.0 20.0
| Shallow-water flatfish | Catcher/Processor and Catcher Vessel | 20.0
| Arrowtooth flounder | Catcher/Processor and Catcher Vessel | 35.0
| Other rockfish | Catcher/Processor and Catcher Vessel | 15.0
| Atka mackerel | Catcher/Processor and Catcher Vessel | 20.0
| Aggregated forage fish | Catcher/Processor and Catcher Vessel | 2.0
| Skates | Catcher/Processor and Catcher Vessel | 5.0
| Other species | Catcher/Processor and Catcher Vessel | 20.0
| Grenadiers | Catcher/Processor and Catcher Vessel | 8.0
Longline gear Rockfish Entry Level Fishery | Use Table 10 to this part.
Opt-out vessels | Use Table 10 to this part.
Rockfish Cooperative Vessels not fishing under a CQ permit | Use Table 10 to this part.
¹ See Notes to Table 10 to Part 679 for descriptions of species groups.

[FR Doc. 2015-32577 Filed 12-24-15; 8:45 am]

BILLING CODE 3510-22-P